DEPARTMENT OF ENERGY

Federal Energy Regulatory Commission

Combined Notice of Filings #1

Take notice that the Commission received the following electric rate filings:

Docket Numbers: ER18-1-002.

Applicants: California Independent System Operator Corporation

Description: Compliance filing: 2018-02-14 Petition for Limited Tariff Waiver to Delay Implementation RSI 1b & 2 to be effective N/A.

Filed Date: 2/14/18.

Accession Number: 20180214-5133.

Comments Due: 5 p.m. ET 2/21/18.

Docket Numbers: ER18-499-001.

Applicants: Southwestern Electric Power Company.

Description: Tariff Amendment: SWEPCO-HOPE PSA RS#125 A&R Windcatcher—Deferral to be effective 1/1/2018.

Filed Date: 2/15/18.

Accession Number: 20180215-5000.

Comments Due: 5 p.m. ET 3/8/18.

Docket Numbers: ER18-500-001.

Applicants: Southwestern Electric Power Company.

Description: Tariff Amendment: SWEPCO-Bentonville PSA RS#126 A&R Windcatcher Deferral Filing to be effective 1/1/2018.

Filed Date: 2/14/18.

Accession Number: 20180214-5166.

Comments Due: 5 p.m. ET 3/7/18.

Docket Numbers: ER18-858-000.

Applicants: PJM Interconnection, L.L.C.

Description: § 205(d) Rate Filing: Amendment to ISA, Service Agreement No. 4189; Queue No. Z2-012 to be effective 6/10/2015.

Filed Date: 2/15/18.

Accession Number: 20180215-5041.

Comments Due: 5 p.m. ET 3/8/18.

Docket Numbers: ER18-859-000.

Applicants: Pacific Gas and Electric Company.

Description: Request for a One-Time Tariff Waiver Pacific Gas and Electric Company.

Filed Date: 2/14/18.

Accession Number: 20180214-5176.

Comments Due: 5 p.m. ET 3/7/18.

Docket Numbers: ER18-860-000.

Applicants: East River Electric Power Cooperative, Inc.

Description: Request for Limited Waiver of Tariff Provisions of East River Electric Power Cooperative, Inc.

Filed Date: 2/14/18.

Accession Number: 20180214-5181.

Comments Due: 5 p.m. ET 3/7/18.

Take notice that the Commission received the following qualifying facility filings:

Docket Numbers: QF17-935-000: QF18-936-000.

Applicants: Zeeland Farm Services, Inc.

Description: Refund report of Zeeland Farm Services, Inc.

Filed Date: 2/14/18.

Accession Number: 20180214-5170.

Comments Due: 5 p.m. ET 3/7/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 15, 2018.
Nathaniel J. Davis, Sr.,
Deputy Secretary.

[FR Doc. 2018-03645 Filed 2-21-18; 8:45 am]

BILLING CODE 6717-01-P